DEPARTMENT OF ENERGY

Federal Energy Regulatory Commission

Combined Notice of Filings #1

November 3, 2005.

Take notice that the Commission received the following electric rate filings.

Docket Numbers: ER01-1527-009; ER01-1529-009.

Applicants: Nevada Power Co.; Sierra Pacific Power Company.

Description: Nevada Power Co. & Sierra Pacific Power Co. notifies FERC of developments constituting a non-material change in status relating to Applicants' market rate authority.

Filed Date: 10/28/2005.

Accession Number: 20051102-0117.

Comment Date: 5 p.m. Eastern Time on Friday, November 18, 2005.

Docket Numbers: ER05-1181-001.

Applicants: PJM Interconnection L.L.C.

Description: PJM Interconnection, LLC submits the revisions to the PJM Amended and Restated Operating Agreement in compliance with FERC's 8/31/05 Order.

Filed Date: 10/28/2005.

Accession Number: 20051101-0013.

Comment Date: 5 p.m. Eastern Time on Friday, November 18, 2005.

Docket Numbers: ER05-1468-001.

Applicants: Ridge Generating Station Limited Partnership.

Description: Ridge Generating Station, Limited Partnership submits supplemental descriptive information re market-based rate schedule and a streamlined generation market power analysis pertaining to the Lakeland Electric control area.

Filed Date: 10/28/2005.

Accession Number: 20051101-0014.

Comment Date: 5 p.m. Eastern Time on Friday, November 18, 2005.

Docket Numbers: ER06-74-000.

Applicants: Commonwealth Edison Company.

Description: Commonwealth Edison Co. submits a notice of cancellation, as Attachment A, regarding the cancellation of ComEd Rate Schedule 80.

Filed Date: 10/28/2005.

Accession Number: 20051101-0021.

Comment Date: 5 p.m. Eastern Time on Friday, November 18, 2005.

Docket Numbers: ER06-75-000.

Applicants: NRG McClain LLC.

Description: NRG McClain LLC submits a notice of cancellation of its FERC Rate Schedule 1.

Filed Date: 10/28/2005.

Accession Number: 20051101-0022.

Comment Date: 5 p.m. Eastern Time on Friday, November 18, 2005.

Docket Numbers: ER06-76-000.

Applicants: LSP-Nelson Energy LLC.

Description: LSP-Nelson Energy LLC submits notice canceling LSP-Nelson's FERC Rate Schedule 1.

Filed Date: 10/28/2005.

Accession Number: 20051101-0023.

Comment Date: 5 p.m. Eastern Time on Friday, November 18, 2005.

Docket Numbers: ER06-77-000.

Applicants: Illinois Municipal Electric Agency.

Description: The Illinois Municipal Electric Agency submits an initial Rate Schedule No. 1 & supporting cost data to establish its annual revenue requirements for providing Reactive Supply & Voltage Control from Generation Sources etc.

Filed Date: 10/28/2005.

Accession Number: 20051101-0024.

Comment Date: 5 p.m. Eastern Time on Friday, November 18, 2005.

Docket Numbers: ER06-78-000.

Applicants: PJM Interconnection, L.L.C.

Description: PJM Interconnection, LLC submits Schedule 9-OPSI, an amendment to the PJM FERC Electric Tariff, Sixth Revised Volume No. 1.

Filed Date: 10/28/2005.

Accession Number: 20051101-0025.

Comment Date: 5 p.m. Eastern Time on Friday, November 18, 2005.

Docket Numbers: ER06-79-000.

Applicants: Styrka Energy Master Fund LLC.

Description: Stykra Energy Master Fund, LLC files to cancel its FERC market based rate tariff, Original Rate Schedule No. 1.

Filed Date: 10/28/2005.

Accession Number: 20051101-0026.

Comment Date: 5 p.m. Eastern Time on Friday, November 18, 2005.

Docket Numbers: ER06-80-000.

Applicants: New York State Electric & Gas Corporation.

Description: New York State Electric & Gas Corp. submits a supplement to Rate Schedule FERC No. 72 Facilities Agreement with the Municipal Board of the Village of Bath.

Filed Date: 10/28/2005.

Accession Number: 20051101-0027.

Comment Date: 5 p.m. Eastern Time on Friday, November 18, 2005.

Docket Numbers: ER06-81-000.

Applicants: Styrka Energy Fund LLC.

Description: Stryka Energy Fund LLC submits a cancellation to its Original Rate Schedule FERC No.1, effective 2/24/04.

Filed Date: 10/28/2005.

Accession Number: 20051101-0028.

Comment Date: 5 p.m. Eastern Time on Friday, November 18, 2005.

Docket Numbers: ER06-82-000.

Applicants: Wisconsin Public Service Corp.

Description: Wisconsin Public Service Corp. submits its Eighth Revised Service Agreement No. 9 with Washington Island Electric Cooperative under FERC Electric Tariff, Fifth Revised Volume No. 1, effective 10/1/05.

Filed Date: 10/28/2005.

Accession Number: 20051101-0029.

Comment Date: 5 p.m. Eastern Time on Friday, November 18, 2005.

Docket Numbers: ER06-83-000.

Applicants: Exelon Corporation.

Description: Exelon Corp on behalf of Commonwealth Edison Co submits notice of cancellation of Original Service Agreement C1059, FERC Electric Tariff, Sixth Revised Volume No. 1, effective 10/13/05.

Filed Date: 10/28/2005.

Accession Number: 20051101-0030.

Comment Date: 5 p.m. Eastern Time on Friday, November 18, 2005.

Docket Numbers: ER06-84-000.

Applicants: Wisconsin Electric Power Company.

Description: Wisconsin Electric Power Co's submits a Notice of Cancellation of its FERC Electric Tariff, Rate Schedule No. 84, effective 1/1/06.

Filed Date: 10/28/2005.

Accession Number: 20051101-0032.

Comment Date: 5 p.m. Eastern Time on Friday, November 18, 2005.

Docket Numbers: ER06-85-000.

Applicants: Vermont Electric Power Company, Inc.

Description: Vermont Electric Power Co submits revisions to the VELCO 1991 Transmission Agreement, effective 1/1/06.

Filed Date: 10/28/2005.

Accession Number: 20051101-0031.

Comment Date: 5 p.m. Eastern Time on Friday, November 18, 2005.

Docket Numbers: ER06-86-000.

Applicants: New York State Electric & Gas Corporation.

Description: New York State Electric & Gas Corp submits supplement to Rate Schedule FERC No. 117—Facilities Agreement with Delaware County Electric Cooperative, etc.

Filed Date: 10/28/2005.

Accession Number: 20051101-0010.

Comment Date: 5 p.m. Eastern Time on Friday, November 18, 2005.

Docket Numbers: ER06-87-000.

Applicants: Styrka Energy Fund Ltd.

Description: Styrka Energy Fund Ltd files to cancel its FERC market based rate tariff, Original Rate Schedule FERC No. 1, and requests waiver of any obligation to file the quarterly report for the quarter ending December 2005.

Filed Date: 10/28/2005.

Accession Number: 20051101-0011.

Comment Date: 5 p.m. Eastern Time on Friday, November 18, 2005.

Docket Numbers: ER06-88-000.

Applicants: El Paso Electric Company.

Description: El Paso Electric Co submits notice of cancellation & a cancellation tariff sheet for the purpose of canceling a Transaction Agreement with Southwestern Public Service Co.

Filed Date: 10/28/2005.

Accession Number: 20051101-0012.

Comment Date: 5 p.m. Eastern Time on Friday, November 18, 2005.

Docket Numbers: ER06-96-000.

Applicants: American Electric Power Service Corporation.

Description: AEP on behalf of Southwestern Electric Power Co submits the executed Second Power Supply Agreement with East Texas Electric Coop, Inc. et al.

Filed Date: 10/28/2005.

Accession Number: 20051102-0367.

Comment Date: 5 p.m. Eastern Time on Friday, November 18, 2005.

Docket Numbers: ER99-830-013; ER04-925-005.

Applicants: Merrill Lynch Capital Services, Inc.; Merrill Lynch Commodities, Inc.

Description: Merrill Lynch Commodities, Inc & Merrill Lynch Capital Services, Inc reports the change in status in connection with the transfer of equity interests in Granite Ridge I SPE, LLC etc.

Filed Date: 10/28/2005.

Accession Number: 20051101-0015.

Comment Date: 5 p.m. Eastern Time on Friday, November 18, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlineSupport@ferc.gov or call (866) 208-3676 (toll free). For TTY, call (202) 502-8659.

Magalie R. Salas,
Secretary.

[FR Doc. E5-6632 Filed 11-28-05; 8:45 am]

BILLING CODE 6717-01-P